DEPARTMENT OF ENERGY

Federal Energy Regulatory Commission

[Docket No. GT95-11-005]

Southern Star Central Gas Pipeline, Inc.; Notice of Filing Amended Refund Report

December 16, 2003.

Take notice that on December 8, 2003, Southern Star Central Gas Pipeline, Inc. (Southern Star), formerly Williams Gas Pipelines Central, Inc., tendered for filing an amended refund report regarding collection of Kansas ad valorem taxes in Southern Star's Docket No. GT95-11.

Southern Star states that this filing is being made in compliance with a Commission Letter Order dated September 23, 2003, directing Southern Star to amend its report filed on June 5, 2003, so that Commission staff would have sufficient information to completely process the filing. Southern Star states that the filing amends the previous report by providing an annual accounting of ad valorem taxes received from producers and notes that the associated refunds were made to customers as of November 28, 2003.

Southern Star states that a copy of this filing was served on all parties included on the official service list maintained by the Secretary in this proceeding.

Any person desiring to protest said filing should file a protest with the Federal Energy Regulatory Commission, 888 First Street, NE., Washington, DC 20426, in accordance with section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: December 23, 2003.

Magalie R. Salas,
Secretary.

[FR Doc. E3-00625 Filed 12-23-03; 8:45 am]

BILLING CODE 6717-01-P